ENVIRONMENTAL PROTECTION AGENCY

[EPA-HQ-OAR-2025-0486; FRL-12870-01-OAR]

EPA Determinations of Compliance and Applicability Under Clean Air Act Section 111, 112, and 129 Dashboard: EPA Formal Responses to Inquiries Concerning Compliance With the Clean Air Act Stationary Source Program (Since May 2019)

AGENCY: Environmental Protection Agency (EPA).

ACTION: Notice of availability.

SUMMARY: This document announces the availability of applicability determinations, alternative monitoring decisions, and regulatory interpretations made by the Environmental Protection Agency (EPA) with regard to the New Source Performance Standards (NSPS); the National Emission Standards for Hazardous Air Pollutants (NESHAP); the Emission Guidelines and Federal Plan Requirements for existing sources; and/or the Stratospheric Ozone Protection Program.

FOR FURTHER INFORMATION CONTACT: For questions about the Clean Air Act (CAA) section 111, 112, and 129 Dashboard or this document, contact Diana Felix, Air Quality Policy Division, Operating Permits Group; telephone number: (919) 541-7627; email address: felix.diana@epa.gov.

An electronic copy of each complete document posted on the CAA section 111, 112, and 129 Dashboard, which contains determinations signed after May 2019, is available on the internet through the Resources and Guidance Documents for Compliance Assistance page of the CAA Compliance Monitoring website under “Air” at: https://www.epa.gov/complying-air-emissions-standards-stationary-sources/epa-determinations-compliance-and. All previously issued responses are posted on the Applicability Determination Index (ADI) data system available on the internet through the Resources and Guidance Documents for Compliance Assistance page of the CAA Compliance Monitoring website under “Air” at: https://www.epa.gov/compliance/resources-and-guidance-documents-compliance-assistance.

The letters and memoranda on the CAA section 111, 112, and 129 Dashboard may be located by facility name, affected subpart, or by response date and is searchable by string word searches.

SUPPLEMENTARY INFORMATION:

General Information

The General Provisions of the NSPS in 40 Code of Federal Regulations (CFR) part 60 and the General Provisions of the NESHAP in 40 CFR part 61 provide that a source owner or operator may request a determination of whether certain intended actions constitute the commencement of construction, reconstruction, or modification. 40 CFR 60.5 and 61.06. The General Provisions in part 60 also apply to Federal and EPA-approved state plans for existing sources in 40 CFR part 62. See 40 CFR 62.02(b)(2). The EPA's written responses to source or facility-specific inquiries on provisions in parts 60, 61 and 62 are commonly referred to as applicability determinations. Although the NESHAP part 63 regulations [which include Maximum Achievable Control Technology (MACT) standards and/or Generally Available Control Technology (GACT) standards] contain no specific regulatory provision providing that sources may request applicability determinations, the EPA also responds to written inquiries regarding applicability for the 40 CFR part 63 regulations. In addition, the General Provisions in parts 60 and 63 allow sources to seek permission to use monitoring or recordkeeping that is different from the promulgated requirements. See 40 CFR 60.13(i), 61.14(g), 63.8(b)(1), 63.8(f), and 63.10(f). The EPA's written responses to these inquiries are commonly referred to as alternative monitoring decisions. Furthermore, the EPA responds to written inquiries about the broad range of regulatory requirements in 40 CFR parts 60 through 63 as they pertain to a whole source category. These inquiries may pertain, for example, to the type of sources to which the regulation applies, or to the testing, monitoring, recordkeeping, or reporting requirements contained in the regulation. The EPA's written responses to these inquiries are commonly referred to as regulatory interpretations.

The EPA previously compiled EPA-issued NSPS and NESHAP applicability determinations, alternative monitoring decisions, and regulatory interpretations, and posted them to the ADI. As of October 2, 2023, the EPA determinations of compliance and applicability under CAA section 111, 112, and 129 will be posted to the CAA section 111, 112, and 129 Dashboard. The CAA section 111, 112, and 129 Dashboard is a data system, accessed via the internet, containing all determinations signed after May 2019.

This document comprises a list of 62 such documents added to the CAA section 111, 112, and 129 Dashboard on June 25, 2025. This document lists the title of each letter and memorandum. Complete copies of these documents may be obtained from the CAA section 111, 112 and 129 Dashboard on the internet through the Resources and Guidance Documents for Compliance Assistance page of the CAA Compliance Monitoring website under “Air” at: https://www.epa.gov/compliance/resources-and-guidance-documents-compliance-assistance.

Applicability Determinations, Alternative Monitoring Plans and Regulatory Interpretations Uploaded to CAA Section 111, 112, and 129 Dashboard on June 25, 2025
Facility name | Title | Affected subpart | Date of response
ANR Pipeline Company Sulphur Springs and LaGrange Compressor Stations | Alternative Monitoring for Stationary Gas Turbines | 40 CFR part 63, subpart YYYY | 2025-06-13
Eagle Butte Co-op Incinerator | Applicability Determination for Commercial and Industrial Solid Waste Incineration Units | 40 CFR part 60, subpart CCCC | 2025-05-28
Gulf South Pipeline Company, LLC—McComb Compressor Station | Alternative Monitoring for Stationary Gas Turbines | 40 CFR part 63, subpart YYYY | 2025-05-19
North Omaha Station | Performance Test Waiver for Coal- and Oil-Fired Electric Utility Steam Generating Unit | 40 CFR part 63, subpart UUUUU | 2025-05-19
Clean Harbors—Kimball NE | Alternative Monitoring for Hazardous Waste Combustors | 40 CFR part 63, subpart EEE | 2025-05-14
QSS Biosolids, LLC | Applicability Determination for Sewage Sludge Incineration Units | 40 CFR part 60, subpart LLLL; 40 CFR part 60, subpart CCCC | 2025-05-13
Citgo Corpus Christi East Refinery | Alternative Monitoring for Petroleum Refineries | 40 CFR part 60, subpart Ja | 2025-04-25
Heartland Corn Products | Request for Operating Limits/Monitoring Petitions for Stationary Gas Turbines | 40 CFR part 63, subpart YYYY | 2025-04-22
Potlatch Deltic Saint Marie's | Regulatory Interpretation for Industrial, Commercial, and Institutional Boilers and Process Heaters | 40 CFR part 63, subpart DDDDD | 2025-03-13
Domtar AW LLC—Ashdown AR | Applicability Determination for Kraft Pulp Mills | 40 CFR part 60, subpart BB; 40 CFR part 63, subpart S | 2025-03-10
Birmingham Airport Authority | Applicability Determination for Other Solid Waste Incineration Units | 40 CFR part 60, subpart EEEE | 2025-03-10
Duke Energy | Regulatory Interpretation for Stationary Reciprocating Internal Combustion Engines | 40 CFR part 63, subpart ZZZZ | 2025-02-27
Dow Chemical—Freeport, TX | Alternative Monitoring for Polymers and Resins | 40 CFR part 63, subpart JJJ | 2025-01-08
Arbor Management Specialist | Applicability Determination for Commercial and Industrial Solid Waste Incineration Units | 40 CFR part 60, subpart CCCC | 2024-12-10
Shuqualak Lumber Company | Alternative Monitoring for Industrial, Commercial, and Institutional Boilers and Process Heaters | 40 CFR part 63, subpart DDDDD | 2024-12-05
Chem Plate Industries | Applicability Determination for Sludge Drying Operation | 40 CFR part 61, subpart E | 2024-10-10
Primient Lafayette | Alternative Monitoring for Stationary Gas Turbines | 40 CFR part 63, subpart YYYY | 2024-09-26
Kaiser Aluminum Spokane Valley | Regulatory Interpretation for Secondary Aluminum Production | 40 CFR part 63, subpart RRR | 2024-09-09
Consumers Muskegon River Compressor Station | Alternative Operating Limits/Monitoring for Stationary Combustion Turbines | 40 CFR part 63, subpart YYYY | 2024-09-05
Oil Energy Systems Inc | Applicability Determination for Other Solid Waste Incineration Units | 40 CFR part 60, subpart EEEE | 2024-09-05
Sonoma Ecology Center (SEC) | Applicability Determination for Other Solid Waste Incineration | 40 CFR part 60, subpart EEEE | 2024-08-22
Platte Generating Station | Alternative Recordkeeping/Reporting for Coal- and Oil-Fired Electric Utility Steam Generating Unit | 40 CFR part 63, subpart UUUUU | 2024-08-22
Cerro Colorado Landfill—City of Albuquerque | Alternative Monitoring for MSW Landfills | 40 CFR part 60, subpart Cf | 2024-08-07
Aurora Energy | Alternative Reporting for Oil and Gas Exploration and Production Operation | 40 CFR part 63, subpart JJJJJJ | 2024-08-01
Lon D Wright Power Plant | Alternative Reporting and Recordkeeping Requirements for Coal-Fired Power Plant | 40 CFR part 63, subpart UUUUU | 2024-08-01
Monarch Ceramic Tile | Applicability Determination for Nonmetallic Mineral Processing Plant | 40 CFR part 60, subpart OOO | 2024-07-02
North Wake Landfill | Alternative Landfill Gas Flowrate Calculation Procedures for NSWL | 40 CFR part 62, subpart OOO; 40 CFR part 63, subpart AAAA | 2024-07-02
Nebraska City Station and North Omaha Station | Alternative Recordkeeping and Reporting for MATS | 40 CFR part 63, subpart UUUUU | 2024-07-01
Savant Alaska | Alternative Reporting for Oil and Gas Exploration and Production Operation | 40 CFR part 60, subpart OOOOa | 2024-07-01
Enerfin Resources Northwest | Alternative Monitoring for Measurement of VHAP | 40 CFR part 63, subpart HH | 2024-06-17
CLECO Brame Energy Center—Madison Units 3-1_3-2 | Performance Test Waiver for Coal- and Oil-Fired Electric Utility Steam Generating Units | 40 CFR part 63, subpart UUUUU; 40 CFR part 63, subpart A | 2024-06-13
ANR Pipeline Sulphur Springs CS | Alternative Operating Limits/Monitoring for Stationary Combustion Turbines | 40 CFR part 63, subpart YYYY | 2024-06-04
Brown County South Landfill | Applicability Determination for Municipal Solid Waste | 40 CFR part 60, subpart XXX | 2024-05-13
DTE Gas Company—Belle River Mills, Milford, and Willow Run | Alternative Operating Limits/Monitoring for Stationary Combustion Turbines | 40 CFR part 63, subpart YYYY | 2024-05-02
GVEA Healy | Alternative Test Dates for MATS | 40 CFR part 63, subpart UUUUU | 2024-04-25
BP Pipelines (North America) Inc | Applicability Determination for Petroleum Refinery | 40 CFR part 60, subpart Ja | 2024-04-15
Amgen Manufacturing, Limited | Performance Test Extension for Stationary Combustion Turbine | 40 CFR part 60, subpart KKKK: | 2024-04-11
Alyeska Valdez Marine Terminal | Applicability Determination for Municipal Waste Combustors | 40 CFR part 63, subpart EEEE; 40 CFR part 63, subpart SS | 2024-04-04
City of Spokane Waste to Energy Facility | Other: Force Majeure | 40 CFR part 60, subpart Eb; 40 CFR part 60, subpart Cb | 2024-04-03
Diversified Vapor Technologies | Alternative Monitoring Plan and Performance Waiver for Petroleum Refineries | 40 CFR part 60, subpart J; 40 CFR part 60, subpart Ja | 2024-03-27
MSU Simon Turbine | Applicability Determination for Stationary Combustion Turbines | 40 CFR part 63, subpart YYYY | 2024-03-25
Dow Chemical Plaquemine Operations | Applicability Determination for MON | 40 CFR part 63, subpart FFFF | 2024-03-18
U.S. Steel—Keetac | Applicability Determination for Ore Processing | 40 CFR part 63, subpart RRRRR | 2024-02-26
Consumers Energy's Muskegon River Compressor Station | Applicability Determination for Stationary Combustion Turbines | 40 CFR part 63, subpart YYYY | 2024-02-21
DTE Marietta | Applicability Determination for Stationary Combustion Turbines | 40 CFR part 63, subpart YYYY | 2024-02-21
ANR Pipeline Company (ANR) LaGrange Compressor Station | Applicability Determination for Stationary Combustion Turbines | 40 CFR part 63, subpart YYYY | 2024-02-20
Seepex, Inc | Applicability Determination for Nine Metal Fabrication and Finishing Source Categories | 40 CFR part 63, subpart XXXXXX | 2024-01-25
Cleveland—Cliffs Minorca Mine Inc | Alternative Monitoring Request for Taconite Iron Ore Processing Units | 40 CFR part 63, subpart RRRRR; 40 CFR part 60, subpart BBa; 40 CFR part 63, subpart MM | 2024-01-19
Applied Gaia B3 Continuous Pyrolysis Machine (Biochar Reactor) | Applicability Determination for the Other Solid Waste Incineration Units | 40 CFR part 60, subpart EEEE | 2024-01-09
Corteva Midland Michigan | Applicability Determination Regarding the Distillation of a SOCMI-listed Chemical | 40 CFR part 63, subpart F; 40 CFR part 60, subpart VVa; 40 CFR part 63, subpart G | 2023-12-12
DTE Gas Company, Milford Compressor Station | Alternative Monitoring for Stationary Gas Turbines | 40 CFR part 63, subpart YYYY | 2023-12-08
DTE Gas Company, Willow Compressor Station | Alternative Monitoring for Stationary Gas Turbines | 40 CFR part 63, subpart YYYY | 2023-12-08
DTE Gas Company, Belle River Compressor Station | Alternative Monitoring for Stationary Gas Turbines | 40 CFR part 63, subpart YYYY | 2023-12-08
Primary Products Ingredients Americas LLC—Primient South | Alternative Monitoring for Stationary Gas Turbines | 40 CFR part 63, subpart YYYY | 2023-12-08
MSU Simon Power Plant | Alternative Operating Limits/Monitoring for Stationary Combustion Turbines | 40 CFR part 63, subpart YYYY | 2023-12-08
Consumers Energy Company—Muskegon River Compressor Station | Alternative Operating Limits/Monitoring for Stationary Combustion Turbines | 40 CFR part 63, subpart YYYY | 2023-11-07
DTE Marietta | Alternative Operating Limits/Monitoring for Stationary Combustion Turbines | 40 CFR part 63, subpart YYYY | 2023-11-07
Cottonwood Hills RDF | Other Request for MSW Landfills | 40 CFR part 63, subpart AAAA | 2023-10-31
DTE Greenwood Energy Center | Applicability Determination for Electric Generating Unit | 40 CFR part 63, subpart DDDDD; 40 CFR part 63, subpart UUUUU | 2023-10-24
Baxter Healthcare of Puerto Rico | Performance Test Extension for Stationary Spark Ignition Internal Combustion Engines | 40 CFR part 60, subpart JJJJ | 2023-10-10
Holmes Regional Medical Center | Alternative Testing for Stationary Compression Combustion Engine | 40 CFR part 63, subpart ZZZZ; 40 CFR part 60, subpart IIII | 2023-10-05
Magellan Pipeline Company, L.P.—Osborn Station | Test Extension Request for Reciprocating Internal Combustion Engine | 40 CFR part 63, subpart ZZZZ | 2023-09-18

Panagiotis Tsirigotis,
Director, Office of Air Quality Planning and Standards.

[FR Doc. 2025-19988 Filed 11-14-25; 8:45 am]

BILLING CODE 6560-50-P